FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 15917N.

Name: Golden Jet-L.A., Inc. dba Golden Jet Freight Forwarders.

Address: 12333 S. Van Ness Avenue, Suite 201, Hawthorne, CA 90250.

Date Revoked: January 29, 2003.

Reason: Failed to maintain a valid bond.

License Number: 1663F.

Name: H.A. & J.L. Wood, Inc.

Address: 231 North 3rd Street, Penbina, ND 58271.

Date Revoked: July 1, 2002.

Reason: Surrendered license voluntarily.

License Number: 2662NF.

Name: La Flor De Mayo Express, Inc.

Address: 311 Bruckner Blvd., Suite B, Bronx, NY 10454.

Date Revoked: January 29, 2003.

Reason: Surrendered license voluntarily.

License Number: 3054F.

Name: Loor International Forwarders, Inc.

Address: 1221 Brickell Avenue, #901, Miami, FL 33131.

Date Revoked: February 14, 2003.

Reason: Failed to maintain a valid bond.

License Number: 2004F.

Name: Shipping Corporation of America.

Address: 2800 N. Ocean Drive, #A7A, Singer Island, FL 33404.

Date Revoked: January 16, 2003.

Reason: Surrendered license voluntarily.

Sandra L. Kusumoto,
Director, Bureau of Consumer Complaints and Licensing.

[FR Doc. 03-5920 Filed 3-11-03; 8:45 am]

BILLING CODE 6730-01-P